DEPARTMENT OF LABOR

Employment and Training Administration

Agency Information Collection Activities; Comment Request; Alien Claims Activity Report

ACTION: Notice.

SUMMARY: The Department of Labor (DOL), Employment and Training Administration (ETA), is soliciting comments concerning a proposed extension for the authority to conduct the information collection request (ICR) titled, “Alien Claims Activity Report.” This comment request is part of continuing Departmental efforts to reduce paperwork and respondent burden in accordance with the Paperwork Reduction Act of 1995 (PRA), 44 U.S.C. 3501 et seq.

DATES: Consideration will be given to all written comments received by July 24, 2017.

ADDRESSES: A copy of this ICR with applicable supporting documentation; including a description of the likely respondents, proposed frequency of response, and estimated total burden may be obtained free by contacting Ericka Parker by telephone at 202-693-3208, TTY 1-877-889-5627 (these are not toll-free numbers) or by email at parker.ericka@dol.gov.

Submit written comments about, or requests for a copy of, this ICR by mail or courier to the U.S. Department of Labor, Employment and Training Administration, Office of Unemployment Insurance, 200 Constitution Avenue NW., Room S-4519, Washington, DC 20210; by email: parker.ericka@dol.gov; or by Fax 202-693-3975.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Section 432 of the Personal Responsibility and Work Opportunity Reconciliation Act of 1996 (PRWORA) (also referred to as the Welfare Reform Act of 1996) (Pub. L. 104-193), requires that aliens applying for certain entitlement programs, including unemployment insurance, have their immigration status verified by the U.S. Citizenship and Immigration Service (USCIS). If an unemployment insurance applicant is not a United States citizen or national, he/she must provide the state agency with documentation from the USCIS that contains his/her Alien Registration Number (commonly called the A-number) or other documents that provide reasonable evidence of current immigration status. This documentation must be verified by the USCIS through the system known as the Systematic Alien Verification for Entitlement. To comply with its responsibilities under the Social Security Administration (SSA), the Department of Labor (Department) must gather information from state agencies concerning alien claimant activities. The Alien Claims Activity Report (ACAR) is the only source available for collecting this information. The following explains the Department's responsibilities under the SSA and the necessity for approval of the attached ACAR.

The ETA 9016 report allows the Department to determine the number of aliens filing for unemployment insurance (UI), the number of benefit issues detected, and the denials resulting from the USCIS SAVE system. From these data, the Department can determine the extent to which state agencies use the system, and the overall effectiveness and cost efficiency of the USCIS SAVE verification system.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0268.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension Without Changes.

Title of Collection: Alien Claims Activity Report.

Form: ETA 9016.

OMB Control Number: 1205-0268.

Affected Public: State Workforce Agencies.

Estimated Number of Respondents: 53.

Frequency: Quarterly.

Total Estimated Annual Responses: 212.

Estimated Average Time per Response: 1 hour.

Estimated Total Annual Burden Hours: 212 hours.

Total Estimated Annual Other Cost Burden: $0.

Authority: 44 U.S.C. 3506(c)(2)(A).

Byron Zuidema,
Deputy Assistant Secretary for Employment and Training, Labor.

[FR Doc. 2017-10490 Filed 5-22-17; 8:45 am]

BILLING CODE 4510-FW-P